DEPARTMENT OF TRANSPORTATION

Federal Railroad Administration

Proposed Agency Information Collection Activities; Comment Request

AGENCY: Federal Railroad Administration, DOT.

ACTION: Notice.

SUMMARY: In accordance with the Paperwork Reduction Act of 1995 and its implementing regulations, the Federal Railroad Administration (FRA) hereby announces that it is seeking renewal of the following currently approved information collection activities. Before submitting these information collection requirements (ICRs) for clearance by the Office of Management and Budget (OMB), FRA is soliciting public comment on specific aspects of the activities identified below.

DATES: Comments must be received no later than April 28, 2008.

ADDRESSES: Submit written comments on any or all of the following proposed activities by mail to either: Mr. Robert Brogan, Office of Safety, Planning and Evaluation Division, RRS-21, Federal Railroad Administration, 1200 New Jersey Ave., SE., Mail Stop 25, Washington, DC 20590, or Ms. Gina Christodoulou, Office of Support Systems Staff, RAD-43, Federal Railroad Administration, 1200 New Jersey Ave., SE., Mail Stop 35, Washington, DC 20590. Commenters requesting FRA to acknowledge receipt of their respective comments must include a self-addressed stamped postcard stating, “Comments on OMB control number 2130-__.” Alternatively, comments may be transmitted via facsimile to (202) 493-6216 or (202) 493-6497, or via e-mail to Mr. Brogan at robert.brogan@dot.gov, or to Ms. Christodoulou at: gina.christodoulou@dot.gov. Please refer to the assigned OMB control number in any correspondence submitted. FRA will summarize comments received in response to this notice in a subsequent notice and include them in its information collection submission to OMB for approval.

FOR FURTHER INFORMATION CONTACT: Mr. Robert Brogan, Office of Planning and Evaluation Division, RRS-21, Federal Railroad Administration, 1200 New Jersey Ave., SE., Mail Stop 25, Washington, DC 20590 (telephone: (202) 493-6292) or Ms. Gina Christodoulou, Office of Support Systems Staff, RAD-43, Federal Railroad Administration, 1200 New Jersey Ave., SE., Mail Stop 35, Washington, DC 20590 (telephone: (202) 493-6139). (These telephone numbers are not toll-free.)

SUPPLEMENTARY INFORMATION: The Paperwork Reduction Act of 1995 (PRA), Public Law No. 104-13, § 2,109 Stat. 163 (1995) (codified as revised at 44 U.S.C. 3501-3520), and its implementing regulations, 5 CFR part 1320, require Federal agencies to provide 60-days notice to the public for comment on information collection activities before seeking approval for reinstatement or renewal by OMB. 44 U.S.C. 3506(c)(2)(A); 5 CFR 1320.8(d)(1), 1320.10(e)(1), 1320.12(a). Specifically, FRA invites interested respondents to comment on the following summary of proposed information collection activities regarding (i) whether the information collection activities are necessary for FRA to properly execute its functions, including whether the activities will have practical utility; (ii) the accuracy of FRA's estimates of the burden of the information collection activities, including the validity of the methodology and assumptions used to determine the estimates; (iii) ways for FRA to enhance the quality, utility, and clarity of the information being collected; and (iv) ways for FRA to minimize the burden of information collection activities on the public by automated, electronic, mechanical, or other technological collection techniques or other forms of information technology (e.g., permitting electronic submission of responses). See 44 U.S.C. 3506(c)(2)(A)(I)-(iv); 5 CFR 1320.8(d)(1)(I)-(iv). FRA believes that soliciting public comment will promote its efforts to reduce the administrative and paperwork burdens associated with the collection of information mandated by Federal regulations. In summary, FRA reasons that comments received will advance three objectives: (i) Reduce reporting burdens; (ii) ensure that it organizes information collection requirements in a “user friendly” format to improve the use of such information; and (iii) accurately assess the resources expended to retrieve and produce information requested. See 44 U.S.C. 3501.

Below is a brief summary of the currently approved ICRs that FRA will submit for clearance by OMB as required under the PRA:

Title: Railroad Locomotive Safety Standards and Event Recorder.

OMB Control Number: 2130-0004.

Abstract: The Locomotive Inspection requires railroads to inspect, repair, and maintain locomotives and event recorders so that they are safe, free of defects, and can be placed in service without peril to life. Crashworthy locomotive event recorders provide FRA with verifiable factual information about how trains are maintained and operated, and are used by FRA and State inspectors for Part 229 rule enforcement. The information garnered from crashworthy event recorders is also used by railroads to monitor railroad operations and by railroad employees (locomotive engineers, train crews, dispatchers) to improve train handling, and promote the safe and efficient operation of trains throughout the country, based on a surer knowledge of different control inputs.

Affected Public: Businesses.

Respondent Universe: 744 Railroads.

Frequency of Submission: On occasion.

Reporting Burden:

CFR section | Respondent universe | Total annual responses | Average time per response | Total annual burden hours | Total annual burden cost
229.9—Movement of Non-Complying Locomotives | 744 Railroads | 21,000 tags | 1 minute | 350 | $12,950
229.17—Accident Reports | 744 Railroads | 1 report | 15 minutes | .25 | 11
229.21—Daily Inspection | 744 Railroads | 5,655,000 rcds | 1 or 3 minutes | 189,583 | 8,341,652
—MU Locomotives: Written Reports | 744 Railroads | 250 reports | 3 minutes | 13 | 572
Form FRA F 6180.49A Locomotive Insp/Repair Rcd | 744 Railroads | 7,250 forms | 2 minutes | 242 | 8,954
210.31—Locomotive Noise Emission Test | 744 Railroads | 100 tests/remarks | 15 minutes | 25 | 925
229.23/229.27/229.29/229.31—Periodic Inspection/Annual Biennial Tests/Main Res. Tests | 744 Railroads | 87,000 tests | 8 hours | 696,000 | 25,752,000
229.33—Out-of Use Credit | 744 Railroads | 500 notations | 5 minutes | 42 | 1,554
229.25(1)—Test: Every Periodic Insp.—Written Copies of Instruction | 744 Railroads | 200 amendments | 15 minutes | 50 | 1,700
229.25(2)—Duty Verification Readout Record | 744 Railroads | 4,025 records | 90 minutes | 6,038 | 181,140
229.25(3)—Pre-Maintenance Test—Failures | 744 Railroads | 700 notations | 30 minutes | 350 | 10,500
229.135(A.)—Removal From Service | 744 Railroads | 1,000 tags | 1 minute | 17 | 629
229.135(B.)—Preserving Accident Data | 744 Railroads | 2,800 reports | 15 minutes | 700 | 23,800
New Requirements
229.27—Annual Tests | 744 Railroads | 700 test records | 90 minutes | 1,050 | 31,500
229.135(b)(1) & (2)—Equipment Rqmnts—Mag Tape Replacements | 744 Railroads | 850 Cert. Mem Modules | 2 hours + 200 hours | 1,900 | 1,500
229.135(b)(3)—Equipment Rqmnts—Lead Locomotives | 744 Railroads | 600 Cert. Mem Modules | 2 hours | 1,200 | 1,500
229.135(b)(4)—Equipment Rqmnts—MU Locomotives | 744 Railroads | 255 Cert. Mem Modules | 2 hours | 510 | 1,500
229.135(b)(5)—Equipment Rqmnts—Other Locomotives | 744 Railroads | 1,000 Cert. Mem Modules | 2 hours | 2,000 | 1,500

Total Responses: 5,783,231.

Estimated Total Annual Burden: 900,070 hours.

Form(s): FRA F 6180.49A.

Status: Regular Review.

Title: Qualifications For Locomotive Engineers.

OMB Control Number: 2130-0533.

Abstract: Section 4 of the Rail Safety Improvement Act of 1988 (RSIA), Public Law 100-342, 102 Stat. 624 (June 22, 1988), later amended and re-codified by Public Law 103-272, 108 Stat. 874 (July 5, 1994), required that FRA issue regulations to establish any necessary program for certifying or licensing locomotive engineers. The collection of information is used by FRA to ensure that railroads employ and properly train qualified individuals as locomotive engineers and designated supervisors of locomotive engineers. The collection of information is also used by FRA to verify that railroads have established required certification programs for locomotive engineers and that these programs fully conform to the standards specified in the regulation.

Affected Public: Businesses.

Respondent Universe: 744 railroads.

Frequency of Submission: On occasion; annually; tri-annually.

Reporting Burden:

CFR section | Respondent universe | Total annual responses | Average time per response | Total annual burden hours | Total annual burden cost
240.9—Waivers | 744 railroads | 3 waivers | 1 hour | 3 | $114
240.11—Certific. Programs | 744 railroads | 50 amend. prog | 1 hour | 50 | 1,900
New Cert. Prog | 20 New railroads | 20 cert. programs | 40 hours | 800 | 30,400
Final Review | 20 railroads | 20 reviews | 1 hour | 20 | 760
Material Changes to Cert. Program | 744 railroads | 30 modified programs | 45 minutes | 23 | 874
240.105(a)—Selection Criteria for DSLEs—Rpts | 744 railroads | 5 amendments | 1 hour | 5 | 190
(b) Approval Plan—Amendments | 744 railroads | 5 amendments | 1 hour | 5 | 190
240.109—Candidate's written comments on prior safety data | 13,333 candidates | 25 responses | 60 minutes | 25 | 1,175
240.111/App C—Driver's License Data | 13,333 candidates | 13,333 requests | 15 minutes | 3,333 | 156,651
—NDR Match—notifications and requests for data | 744 railroads | 133 responses + 133 requests | 15 minutes | 67 | 2,848
—Written response from candidate on driver's lic. data | 744 railroads | 20 cases and comments | 15 minutes | 5 | 235
240.111(g)—Notice to RR of Absence of License | 40,000 candidates | 4 letters | 15 minutes | 1 | 47
240.111(h)—Duty to furnish data on prior safety conduct as motor vehicle op | 744 railroads | 200 phone calls | 10 minutes | 33 | 1,551
240.113—Notice to RR Furnishing Data on Prior Safety Conduct—Diff. RR | 13,333 candidates | 267 requests + 267 responses | 15 min./30 min | 200 | 8,203
240.119—Self-referral to EAP re: active substance abuse disorder | 40,000 locomotive engineers | 50 self-referrals | 5 minutes | 4 | 188
240.121—Criteria—Vision/Hearing; Acuity Data—New Railroads | 20 railroads | 20 copies | 15 minutes | 5 | 190
240.121—Criteria—Vision/Hearing; Acuity Data—Cond. Certification | 744 railroads | 20 reports | 1 hour | 20 | 760
240.121—Criteria—Vision/Hearing; Acuity Data—Not Meeting Standards | 744 railroads | 10 notifications | 15 minutes | 3 | 141
240.201/221—List of Certified Loco. Engineers | 744 railroads | 744 updates | 15 minutes | 186 | 7,068
240.201/221—List of Qualified DSLEs | 744 railroads | 744 updated lists | 15 minutes | 186 | 7,068
240.201/223/301—Loco. Engineers Certificate | 40,000 candidates | 13,333 certificates | 5 minutes | 1,111 | 42,218
240.201/223—List of Auth Empl | 744 railroads | 5 lists | 15 minutes | 1 | 38
240.205—Data to EAP Counselor | 744 railroads | 133 records | 5 minutes | 11 | 517
240.207—Medical Certificate | 40,000 candidates | 13,333 certificates | 70 minutes | 15,555 | 1,711,050
—Written determinations waiving use of corrective device | 744 railroads | 10 determinations | 2 hours | 20 | 2,200
240.219—Denial of Certification | 13,333 candidates | 30 letters +30 responses | 1 hour | 60 | 2,550
—Notification | 744 railroads | 30 notifications | 1 hour | 30 | 1,140
240. 229—Requirements For Joint Operations | 321 railroads | 184 calls | 5 minutes | 15 | 705
240.309—RR Oversight Resp.: Poor Safety Conduct—Noted | 15 railroads | 6 annotations | 15 minutes | 2 | 98
Testing Rqmnts
240.209/213—Written Tests | 40,000 candidates | 13,333 tests | 2 hours | 26,666 | 1,013,308
240.211/213—Perf. Test | 40,000 candidates | 13,333 tests | 2 hours | 26,666 | 1,013,308
240.303—Annual operational monitor observation | 40,000 candidates | 40,000 tests/docs. | 2 hours | 80,000 | 3,920,000
240.303—Annual operating rules compliance test | 40,000 candidates | 40,000 tests | 1 hour | 40,000 | 1,960,000
Recordkeeping
240.215—Retaining Info. Supporting Determination | 744 railroads | 13,333 records | 30 minutes | 6,667 | 253,346
240.305—Engineer's Notice of Non-Qualific | 40,400 engineers or candidates | 100 notifications | 5 minutes | 8 | 376
—Relaying Non-qual. Status to other certifying railroad | 800 engineers | 2 letters | 30 minutes | 1 | 47
240.307—Notice to Engineer of Disqualification | 744 railroads | 650 letters | 1 hour | 650 | 24,700
240.309—Railroad Annual Review | 28 railroads | 28 reviews | 40 hours | 1,120 | 71,680
—Report of findings | 28 railroads | 6 reports | 1 hour | 6 | 384

Total Responses: 163,997.

Estimated Total Annual Burden: 203,568 hours.

Status: Regular Review.

Title: Railroad Worker Protection.

OMB Control Number: 2130-0539.

Type of Request: Extension of a currently approved collection.

Affected Public: Railroads.

Abstract: This rule establishes regulations governing the protection of railroad employees working on or near railroad tracks. The regulation requires that each railroad devise and adopt a program of on-track safety to provide employees working along the railroad with protection from the hazards of being struck by a train or other on-track equipment. Elements of this on-track safety program include an on-track safety manual; a clear delineation of employers' responsibilities, as well as employees' rights and responsibilities thereto; well-defined procedures for communication and protection; and annual on-track safety training. The program adopted by each railroad is subject to review and approval by FRA.

CFR section | Respondent universe | Total annual responses | Average time per response | Total annual burden hours | Total annual burden cost
Form FRA F 6180.199—Part 214 Railroad Workplace Safety Violation Report Form | 350 Safety Inspectors | 200 forms | 4 hours | 800 | $28,800
214.311—Written Procedure of Challenges Made to On-Track Safety Procedures—Program Amendments | 744 Railroads | 20 amend./584 prog. amend | 20 hours/4 hours | 2,736 | 103,968
—Subsequent Years: Safety Programs | 5 Railroads | 5 safety prog | 250 hours | 1,250 | 47,500
214.313—Responsibility of Individual Roadway Workers—Good Faith Challenges | 20 Railroads | 80 challenges | 4 hours | 320 | 11,520
214.315/335—Supervision and Communication Job Briefings | 50,000 Roadway Empl | 16,350,000 brf | 2 minutes | 545 | 19,620,000
214.321—Exclusive Track Occupancy—Working Limits—Written Authorities | 85,853 Roadway Workers | 700,739 auth | 40 seconds | 7,786 | 280,296
214.325—Train Coordination—Communications | 50,000 Roadway Workers | 36,500 comm | 15 seconds | 152 | 55,472
214.327—Inaccessible Track—Establishing Working Limits | 50,000 Roadway Workers | 50,000 Occurrences | 10 minutes | 8,333 | 299,988
214.337—On-Track Safety Procedures for Lone Workers: Train Detection—Written Statements | 744 Railroads | 2,080,000 stat | 30 seconds | 17,333 | 623,988
214.355—Training and Qualification for Operators of Roadway Maintenance Machines | 50,000 Roadway Workers | 50,000 records | 2 minutes | 1,667 | 63,346
214.503—Good Faith Challenges; Procedures for Notification and Resolution | 50,000 Roadway Workers | 125 notific | 10 minutes | 21 hours | 756
—Resolution Procedures | 744 Railroads | 10 procedures | 2 hours | 20 hours | 760
214.505—Req'd Environmental Control and Protection Systems For New On-Line Roadway Maintenance Machines with Enclosed Cabs | 744 Railroads | 9 lists | 1 hour | 9 hours | 342
214.507—Required Safety Equipment for New On-Track Roadway Maint. Machines—Stickers | 744 Railroads | 1,000 stickers | 5 minutes | 83 | 2,988
214.511—Req'd Audible Warning Devices—Roadway Maintenance Machines—I.D | 744 Railroads | 3,700 devices | 5 minutes | 308 | 11,088
214.513—Retrofitting Existing On-track RMM | 744 Railroads | 2,300 Identific | 5 minutes | 192 | 6,912
214.515—Overhead Covers For Existing On-Track Roadway Maintenance Machines (RMM) | 744 Railroads | 500 requests + 500 responses | 10 min. + 20 min | 250 | 9,334
214.517—Retrofitting of Existing On-Track RMM Manufactured After 1991 | 744 Railroads | 6,000 stencils | 5 minutes | 500 | 18,000
214.518—Safe and secure positions for riders | 744 Railroads | 7,500 markings | 5 minutes | 625 | 22,500
214.523—Hi-Rail Vehicles—Inspections—Rcds | 744 Railroads | 2,000 recds | 60 minutes | 2,000 | 72,000
—Non-Complying Conditions—Tags + Reports | 744 Railroads | 500 tags + 500 reports | 10 min. + 15 min | 208 | 7,488
214.527—On-Track RMM; Inspection for Compliance; Repair Schedules—Tags + Reports | 744 Railroads | 550 tags + 550 reports | 5 min. + 15 min | 184 | 6,624
214.533—Schedule of Repairs; Subject to Availability of Parts—Records | 744 Railroads | 250 records | 15 minutes | 63 | 2,394

Total Responses: 19,294,122

Estimated Total Annual Burden: 589,840 hours.

Form(s): FRA F 6180.119.

Status: Regular Review.

Title: Locomotive Cab Sanitation Standards.

OMB Control Number: 2130-0552.

Abstract: The collection of information is used by FRA to promote rail safety and the health of railroad workers by ensuring that all locomotive crew members have access to toilet/sanitary facilities—on as needed basis—which are functioning and hygienic. Also, the collection of information is used by FRA to ensure that railroads repair defective locomotive toilet/sanitary facilities within 10 calendar days of the date on which these units becomes defective.

Affected Public: Businesses.

Respondent Universe: Railroads.

Reporting Burden:

CFR section | Respondent universe | Total annual responses | Average time per response | Total annual burden hours | Total annual burden cost
229.137(d)—Sanitation—Locomotive Defective or Unsanitary Toilet Facility Placed in Trailing Service—Clear Markings: Unavailable For Use | 744 Railroads | 7,800 notices | 90 seconds | 195 | $6,435
229.137(e)—Sanitation—Locomotive Defective Toilet Facility—Clear Markings: Unavailable For Use | 744 Railroads | 5,200 notices | 90 seconds | 130 | 4,290
229.139(d)—Servicing—Locomotive Used in Transfer or Switching Service with Defective Toilet Facility—Date Defective | 744 Railroads | 93,600 notations | 30 seconds | 780 | 25,740

Total Responses: 106,600.

Estimated Total Annual Burden: 1,105 hours.

Status: Regular Review.

Title: Positive Train Control.

OMB Control Number: 2130-0553.

Abstract: The collection of information is used by FRA to ensure that new or novel signal and train control technologies, essentially electronic or processor-based systems, meet the “performance standard” stipulated in FRA's final rule and work as intended in the U.S. rail environment. These new signal and train control technologies are known as “Positive Train Control” (PTC).

Affected Public: Businesses.

Respondent Universe: Railroads.

Reporting Burden:

CFR section | Respondent universe | Total annual responses | Average time per response | Total annual burden hours | Total annual burden cost
234.275—Processor-Based Systems—Deviations from Product Safety Plan (PSP)—Letters | 85 Railroads | 25 letters | 4 hours | 100 | $3,800
236.18—Software Management Control Plan | 85 Railroads | 45 plans | 100 hours | 4,500 | 297,000
236.905—Railroad Safety Program Plan (RSPP) | 85 Railroads | 15 plans | 250 hours | 3,750 | 153,000
—Response to FRA Request For Add'l Information | 85 Railroads | 2 documents | 8 hours | 16 | 608
—FRA Approval of RSPP Modifications | 85 Railroads | 5 amendments | 60 hours | 300 | 13,080
236.907—Product Safety Plan (PSP)—Development | 85 Railroads | 30 plans | 240 hours | 7,200 | 900,000
236.909—Minimum Performance Standard | 85 Railroads | 7 petitions | 8 hours | 56 | 3,696
—Petitions For Review and Approval
—Performance of Full Risk Assessment | 85 Railroads | 5 assessments | 3,000 hours | 15,000 | 1,875,000
—Subsequent Years—Full Risk Assessment | 85 Railroads | 7 assessments | 1,200 hours | 8,400 | 1,050,000
—Abbreviated Risk Assessment | 85 Railroads | 25 assessments | 240 hours | 6,000 | 750,000
—Subsequent Years—Abbrev. Risk Assessment | 85 Railroads | 10 assessments | 60 hours | 600 | 75,000
Alternative Risk Assessment | 85 Railroads | 5 assessments | 3,000 hours | 15,000 | 1,875,000
236.911—Exclusions—Notification to FRA | 85 Railroads | 20 notifications | 80 hours | 1,600 | 60,800
—Election to Have Excluded Products Covered By Submitting a Product Safety Plan (PSP) | 85 Railroads | 2 plans | 240 hours | 480 | 18,240
236.913—Notification/Submission to FRA of Joint Product Safety Plan | 85 Railroads | 5 notices/plans | 240 hours | 1,200 | 45,600
—Petitions For Approval/Informational Filings | 85 Railroads | 32 petitions | 40 hours | 1,280 | 48,640
—Responses to FRA Request for Further Info. After Informational Filing | 85 Railroads | 20 documents | 40 hours | 800 | 30,400
—Responses to FRA Request for Further Info. After Agency Receipt of Notice of Product Development—Technical Consultations | 85 Railroads | 5 consultations | 120 hours | 600 | 75,000
—Petitions for Final Approval | 85 Railroads | 20 petitions | 40 hours | 800 | 30,400
—FRA Receipt of Petition & Request For Info | 85 Railroads | 10 documents | 80 hours | 800 | 30,400
—Agency Consultations To Decide on Petition | 85 Railroads | 10 consultations | 40 hours | 400 | 15,200
—Other Petitions for Approval | 85 Railroads | 5 petitions | 60 hours | 300 | 11,400
—FRA acknowledges receipt of petitions | 85 Railroads | 10 documents | 40 hours | 400 | 15,200
236.913 Petitions for Approval/Informational Filings—Comments | Public/RR Community | 10 comments | 8 hours | 80 | 2,960
Product Safety Plan (PSP)—3rd Party Assessment | 85 Railroads | 3 assessments | 4,000 hours | 12,000 | 1,500,000
Product Safety Plan—Amendments | 85 Railroads | 15 amendments | 40 hours | 600 | 22,200
236.917—Retention of Records | 85 Railroads | 22 documents | 40 hours | 880 | 33,440
Report of Inconsistencies with PSP to FRA | 85 Railroads | 40 reports | 20 hours | 800 | 30,400
236.919—Operations & Maintenance Manual | 85 Railroads | 30 manuals | 120 hours | 3,600 | 136,800
—Plans For Proper Maintenance, Repair, Inspection of Safety-Critical Products | 85 Railroads | 30 plans | 200 hours | 6,000 | 228,000
—Hardware/Software/Firmware Revisions | 85 Railroads | 5 revisions | 40 hours | 200 | 7,600
—Identification of Safety-Critical Components | 85 Railroads | 10,000 markings | 10 minutes | 1,667 | 51,667
236.921—Training | 85 Railroads | 30 Training Prog | 400 hours | 12,000 | 456,000
—Training of Signalmen & Dispatchers | 85 Railroads | 220 sessions | 40 hours/20 hrs | 8,400 | 1,050,000
236.923—Task Analysis/Basic Reqmnts—Recds | 85 Railroads | 4,400 records | 10 minutes | 733 | 27,854

Total Responses: 15,145.

Estimated Total Annual Burden: 117,342 hours.

Status: Regular Review.

Title: Post-Traumatic Stress in Train Crew Members After a Critical Incident.

OMB Control Number: 2130-0567.

Abstract: Nearly 1,000 fatalities occur every year in this country from trains striking motor vehicles at grade crossings and individual trespassers along the track. These events can be very traumatic to train crew members, who invariably are powerless to prevent such collisions. Exposure of train crews to such work-related traumas can cause extreme stress and result in safety-impairing behaviors, such as are seen in Post-Traumatic Stress Disorder or Acute Stress Disorder. Most railroads have Critical Incident Stress Debriefing (CISD) intervention programs designed to mitigate problems caused by exposure to these traumas. However, they are quite varied in their approach, and it is not certain which components of these programs are most effective. The purpose of this collection of information is to identify “best practices” for CISD programs in the railroad industry. By means of written and subsequent oral interviews with train crew members that will each take approximately 45 minutes, the approved study aims to accomplish the following: (1) Benchmark rail industry best practices of CISD programs; (2) Establish the extent of traumatic stress disorders due to grade crossing and trespasser incidents in the rail industry (not by region or railroad) and identify at-risk populations; and (3) Evaluate the effectiveness of individual components of CISD programs. It should be noted that only the components of CISD programs will be evaluated, not an individual railroad's overall intervention program.

Affected Public: Train Crew Members.

Respondent Universe: 2,000 Train Crew Members.

Frequency of Submission: On Occasion.

Form(s): FRA F 6180.120; FRA F 6180.121; FRA F 6180.122.

Estimated Annual Burden: 3,000 hours.

Status: Regular Review.

Pursuant to 44 U.S.C. 3507(a) and 5 CFR 1320.5(b), 1320.8(b)(3)(vi), FRA informs all interested parties that it may not conduct or sponsor, and a respondent is not required to respond to, a collection of information unless it displays a currently valid OMB control number.

Authority: 44 U.S.C. 3501-3520.

Issued in Washington, DC on February 20, 2008.
D.J. Stadtler,
Director, Office of Financial Management, Federal Railroad Administration.

[FR Doc. E8-3606 Filed 2-25-08; 8:45 am]

BILLING CODE 4910-06-P